DEPARTMENT OF HEALTH AND HUMAN SERVICES

Office of the Secretary, Office of the Assistant Secretary for Administration

Statement of Organization, Functions, and Delegations of Authority; Office of the Assistant Secretary for Public Affairs

Part A of the HHS Organization Manual Office of the Secretary, Department of Health and Human Services (HHS) is being amended at Chapter AP, “Office of the Assistant Secretary for Public Affairs (ASPA),” as last amended at 70 FR 61621-22, dated Oct. 25, 2005. Over the past several years, ASPA has been refining its organizational structure to improve its strategic and operational communication capacities to more effectively support the mission and strategic priorities of the Department. A substantive element of this change has been a shift from a purely operational structure focusing on defined services to one that builds a whole-of-ASPA approach that draws on all communication skills across each of three key portfolios—health care, public health, and human services. The proposed organizational realignments will, therefore, update and revise ASPA's structure to reflect this more functional, strategic operational approach. The changes are described below:

I. Under Part A, Chapter AP, Section AP.00 Mission, delete in its entirety and replace with the following:

AP.00 Mission: The ASPA serves as the Secretary's principal counsel on public affairs, leading efforts across the Department to promote transparency, accountability and access to critical public health and human services information to the American people. The Office of the Assistant Secretary for Public Affairs conducts national public affairs programs, provides centralized leadership and guidance for public affairs activities within HHS' Staff and Operating Divisions and regional offices, manages the Department's digital communications and administers the Freedom of Information and Privacy Acts. The Division leads the planning, development and implementation of emergency incident communications strategies and activities for the Department. The ASPA reports directly to the HHS Secretary.

II. Under Part A, Chapter AP, Section AP.10 Organization, delete in its entirety and replace with the following:

AP.10 Organization. The Office of the Assistant Secretary for Public Affairs, headed by the Assistant Secretary for Public Affairs (ASPA) who reports to the Secretary, supports public affairs efforts for three primary issue areas: Public Health, Human Services, and Health Care. ASPA consists of the following organizations:

• The Office of the Assistant Secretary for Public Affairs, Agency Chief FOIA Officer

• The Office of the Principal Deputy Assistant Secretary

—Strategic Planning Division

—Speechwriting Division

• The Office of the Deputy Assistant Secretary for Public Health

• The Office of the Deputy Assistant Secretary for Health Care

• The Office of the Deputy Assistant Secretary for Human Services

—Broadcast Services Division

—Digital Communications Division

• Executive Officer/Deputy Agency Chief FOIA Officer

—Business Operations Division

—Administrative Operations Division

—FOIA/Privacy Act Division

III. Under Section AP.20 Functions, delete in its entirety, and replace with the following:

A. The Office of the Assistant Secretary for Public Affairs (AP)—Provides executive leadership, policy direction, and management strategy for the Department's public affairs programs and activities. Counsels and acts for the Secretary and the Department in carrying out responsibilities under statutes, Presidential directives, and Secretarial orders for informing the general public, specialized audiences, HHS employees, and other Federal employees about the programs, policies, and services of the Department. Establishes and enforces policies and practices which produce an accurate, clear, efficient, and consistent flow of information to the general public and other audiences about departmental programs and activities. Provides advice, counsel and information to the Secretary and other HHS policymakers to ensure that public affairs impact is considered in the establishment of departmental policies or the conduct of its activities. Serves as the principal point of contact with senior White House officials regarding communications and press issues. Exercises professional leadership and provides functional management of public affairs activities throughout the Department to ensure that Secretarial priorities are followed, high quality standards are met, and cost-effective, non-duplicative communications products are developed which accurately and effectively inform its audiences. Serves as Secretarial surrogate throughout the public and private sector to both represent the views of the Administration and the Secretary, and to inform and educate various audiences. Ensures coordination among public affairs components. Manages public affairs issues and special activities that cut across Operating Division lines.

In addition, the Assistant Secretary for Public Affairs (ASPA) serves as the HHS Agency Chief FOIA Officer (ACFO), pursuant to Executive Order 13392 and the Freedom of Information Act, as amended by Public Law 110-175, 121 Stat. 2524, 5 U.S.C. 552(k). In this capacity, the ASPA/ACFO is responsible for administering information access and privacy protection laws and HHS regulations implementing these laws to ensure Department wide consistency in information disclosure, confidentiality policies, practices and procedures. Such laws include the Freedom of Information Act and the Privacy Act, as well as the open meetings provisions of the Federal Advisory Committee Act, the Government in the Sunshine Act and the disclosure provisions of the Ethics in Government Act.

B. The Office of the Principal Deputy Assistant Secretary for Public Affairs (APE)—Responsible for developing effective strategies to publicize Departmental policies, goals and accomplishments, activities related to the Department's communications services and public affairs policy analysis, and management oversight of the Strategic Planning Division and the Speechwriting Division. Provides advice and assistance on all public affairs matters, in consultation with the Assistant Secretary for Public Affairs; coordinates with ASPA's Deputy Assistant Secretaries for Public Affairs (Public Health, Health Care, Human Services) in providing prompt response to media and public inquiries, and in helping the Assistant Secretary for Public Affairs generate a strategic focus for stories and other information products that the Department develops and wishes to highlight. Manages or coordinates the conduct of high priority media campaigns and information programs in the Department. Acts as liaison to private sector organizations, to the Operating and Staff Divisions, to the public affairs units in the HHS Operating Divisions and Regions and to other Federal agencies, including OMB and the Office of Public Liaison at the White House. Initiates, designs and effects outreach programs for all organizations, associations and individuals concerned with the broad range of policies, programs and issues of the Department. Performs special assignments which involve and cut across Department programs and activities to achieve broadly defined public affairs management and program objectives. Interacts with internal and external organizations, groups and individuals to secure and provide information concerning matters affecting HHS policy, interests, and initiatives. Represents the Assistant Secretary for Public Affairs in conveying official viewpoints and policy considerations of the Department and the Administration.

B1. Strategic Planning Division (APE1)—Provides strategic, long-term vision and strong leadership on public health, health care, and human services initiatives. Collaborates with and has the authority to work across HHS Staff/Operating Divisions and White House Press Offices. Leads implementation of strategic plans and coordinates earned, digital, and specialty media staff across the Department to boost impact, ensuring the right message is delivered to the right audience through the right channel. Advises the Secretary and Senior Staff on tactics, timing and level of investment in accordance with the Department's strategic priorities. Provides proactive consultation and advice to HHS Staff/Operating Divisions, including regional staff, regarding the dissemination of information on programs, policies, and initiatives; while ensuring the wide dissemination of accurate materials to the American public. Participates with the Assistant Secretary for Public Affairs (ASPA), the Principal Deputy Assistant Secretary (PDAS), and other ASPA staff in discussions with staff across the Department on cross-cutting issues regarding overall policies, planning, issues, concerns and activities and related health care programs. Works with all HHS Staff/Operating Divisions to develop a long-term outreach strategy, coordinate in-house communications efforts, and ensure consistency with plain writing directives. Promotes full and open participation in the communications process and develops reports and recommendations, ensuring full review and vetting of drafts by appropriate staff between and among ASPA's customers and stakeholders at all levels. Researches, understands, and translates for a lay audience laws, policies, regulations and precedents applicable to public health, health care, and human services. Oversees the document clearance process and the prioritization of rollouts while taking into account internal and external feedback. Coordinates and/or prepares briefings, memos, policy calendars and other information material for use by the Secretary, HHS, at Secretarial and senior staff briefings, the White House, and for congressional and other briefings.

B2. Speechwriting Division (APE2)—Serves as the principal resource with the Department for reviewing and editing written materials reflecting the views of the Secretary, Deputy Secretary, and Chief of Staff. Prepares speeches, statements, articles, and related material for the Secretary, Deputy Secretary, and Chief of Staff and other top Departmental officials. Researches and prepares Op Ed pieces, features, articles, and stories for the media.

C. Deputy Assistant Secretary for Public Affairs (Public Health) (APB)—The Public Health team works with agencies such as the Centers for Disease Control and Prevention, Food and Drug Administration, National Institutes for Health, and others on initiatives and strategies to promote public health, improve health outcomes, prevent disease, respond to outbreaks, and accelerate scientific discovery. Key priorities include helping Americans achieve and maintain a healthy weight, preventing and reducing tobacco use, supporting the National HIV/AIDS strategy, and implementing a modern food safety system. The Deputy Assistant Secretary for Public Affairs (Public Health)—DAS-PH—provides advice and assistance on all public affairs matters within ASPA's public health portfolio, in consultation with the Assistant Secretary for Public Affairs and in coordination with the Principal Deputy Assistant Secretary for Public Affairs. In this capacity, the DAS-PH: Provides prompt responses to media and public inquiries; and generates a strategic focus for stories and other information products or outputs that the Department develops and wishes to highlight; Conducts an active communication program with the public on behalf of the Department through the media and other avenues of communication in order to further public understanding of its policies, programs and issues; Coordinates press activities with the White House Press Office and other government departmental press operations; Responds to inquiries from Congress, other arms of the government, media and the public that involves the collection of data. In addition, the DAS-PH leads the planning, development and implementation of emergency incident and risk communications strategies and activities for the Department.

D. Deputy Assistant Secretary for Public Affairs (Health Care) (APC)—The Health Care team works to advance a 21st century healthcare system that delivers high quality, affordable care to all Americans. The team works with agencies such as the Agency for Healthcare Research and Quality, Office of the National Coordinator for Health Information Technology, Health Resources and Services Administration, and the Centers for Medicare & Medicaid Services to improve access, quality, safety, efficiency, and effectiveness of the nation's healthcare. The Deputy Assistant Secretary for Public Affairs (Health Care)—DAS-HC—provides advice and assistance on all public affairs matters within ASPA's healthcare portfolio, in consultation with the Assistant Secretary for Public Affairs and in coordination with the Principal Deputy Assistant Secretary for Public Affairs. In this capacity, the DAS-HC: Provides prompt responses to media and public inquiries; and generates a strategic focus for stories and other information products or outputs that the Department develops and wishes to highlight; Conducts an active communication program with the public on behalf of the Department through the media and other avenues of communication in order to further public understanding of its policies, programs and issues; Coordinates press activities with the White House Press Office and other government departmental press operations; Responds to inquiries from Congress, other arms of the government, media and the public that involves the collection of data. A key initiative in the DAS-HC portfolio is to help implement the Affordable Care Act, which is providing new coverage options and tools for Americans to make informed choices about their health.

E. Deputy Assistant Secretary for Public Affairs (Human Services) (APD)—The Human Services team helps Americans of all ages and backgrounds live full, productive lives: Kids getting a “Head Start” through early childhood education, families transitioning out of poverty to economic independence, teens and adults recovering from mental illness and addiction, and seniors participating in communities that value their contributions. These and other human service programs are carried out by the Administration for Children and Families, Administration for Community Living, Indian Health Service, Office for Civil Rights, and Substance Abuse and Mental Health Services Administration. The Deputy Assistant Secretary for Public Affairs (Human Services)—DAS-HS—provides advice and assistance on all public affairs matters within ASPA's healthcare portfolio, in consultation with the Assistant Secretary for Public Affairs and in coordination with the Principal Deputy Assistant Secretary for Public Affairs. In this capacity, the DAS-HS: Provides prompt responses to media and public inquiries; and generates a strategic focus for stories and other information products or outputs that the Department develops and wishes to highlight; Conducts an active communication program with the public on behalf of the Department through the media and other avenues of communication in order to further public understanding of its policies, programs and issues; Coordinates press activities with the White House Press Office and other government departmental press operations; Responds to inquiries from Congress, other arms of the government, media and the public that involves the collection of data. In addition, the DAS-HS provides direction and oversight to the Broadcast Communications Division (BCD) and the Digital Communications Division (DCD).

E.1 Broadcast Communications Division—BCD (APD1)—Collaborates with subject matter experts and key stakeholders to create useful and cost effective video products that support Departmental goals. Provides a wide range of video production and A/V services. Operates the HHS studio and coordinates activities with other HHS studios as required. Under the direction of the ASPA, supports key initiatives for the Secretary and all HHS Staff Divisions by developing and implementing media campaigns and special projects. Acts as liaison to broadcast organizations. Supports A/V services in the Humphrey Auditorium and Great Hall.

E.2 Digital Communications Division—DCD (APD2): Leads the development and review of HHS Web content, social media, and supporting technologies. Recommends and implements digital (including Web) information policy, standards, guidance, and tools for the Department. Assesses the content and usability of all proposed Department-wide and Office of the Secretary (OS)-level Web sites to ensure they are consistent with Departmental policies and goals. Manages the daily operations of the main HHS/OS public Web site (HHS.gov) and associated social media; the Department's priority Web sites and several cross-federal topic Web sites, such as FoodSafety.gov and Flu.gov, Secretary-level Web pages; and the HHS intranet. Runs the Department's user experience (UE) program, including two usability laboratories; responsible for Section 508 (accessibility) compliance across all Departmental digital communications platforms, including Web.

F. Executive Officer/Deputy Agency Chief FOIA Officer (APA)—Coordinates ASPA's day-to-day operations, overseeing management operations and policy, workforce plans and other human resources activities, and general administrative support including information technology requirements. Oversees the formulation and execution of ASPA's annual budgets and financial operating plans. Ensures that ASPA effectively integrates its performance metrics and budget processes, in order to support informed decision-making related to funding constraints and program requirements and outcomes. Supports the development and implementation of management strategies, business processes, and standard operating procedures that fully support the attainment of ASPA program goals and mission critical initiatives.

ASPA's Executive Officer also serves as the designated Deputy Agency Chief FOIA Officer (DACFO) and is delegated authority to execute the provisions of EO 13392 and 5 U.S.C. 552 (k), as follows: Monitoring FOIA implementation throughout the department and keeping the Secretary and the Office of the General Counsel (OGC), HHS, and the U.S. Attorney General appropriately informed of HHS' performance in implementing FOIA; recommending to the Secretary adjustments to departmental practices, policies, personnel, and funding necessary to improve HHS implementation of FOIA; facilitating public understanding of the purposes of the statutory FOIA exemptions; establishing Departmental FOIA policies and providing training and technical assistance to the department's Operating Divisions (OpDivs); concurring in the delegation by an authorized HHS OpDiv FOIA Officer of the officer's authority to deny records or determine fees; serving as the review authority for appeals from a decision to deny a request for records or a refusal to waive fees made by the Director, FOIA/Privacy Act Division, ASPA, as well as ensuring consultation with OGC and providing review and concurrence on all departmental appeal decisions, including those on fees; general responsibility for Department-wide implementation and administration of the Privacy Act; authority to decide appeals of refusals to amend or correct records of the Office of the Secretary (OS); serving as ASPA's designated senior level official on the HHS Data Integrity Board; and acknowledging receipt of requests from OpDiv and OS Staff Division heads and Regional Directors for waivers to the minimum safeguarding standards established to secure records maintained in systems of records.

F1. Business Operations Division (APA1)—Directs ASPA budget formulation, execution and financial management; incorporating a results-oriented, program quality, and cost effectiveness focus into assessing and managing ASPA's resource requirements and developing and executing integrated performance-based budgets. Oversees and manages ASPA contracts and procurements, physical property, and information technology initiatives and requirements. Coordinates travel operations support, reporting, and auditing. Serves as ASPA's liaison to the Office of the Assistant Secretary for Financial Resources (ASFR) for budget and finance matters and the Office of the Assistant Secretary for Administration (ASA) for facilities, property accountability, and contract implementation and oversight matters. Additionally serves as the ASPA point of contact for departmental UFMS, PRISM, and acquisition management initiatives and for budget and performance integration inquiries from OMB and Congress.

F2. Administrative Operations Division (APA2)—Directs ASPA's human capital planning, human resources (HR) performance management, and other departmental HR policy and program requirements. Serves as ASPA's internal consultant and source of expert technical assistance on organizational development and human capital management (e.g., staffing and workforce analysis, transition and succession planning, awards and special honors programs), and as liaison to the Office of the Secretary (OS) Office of Human Resources (OHR) on sensitive personnel issues (e.g., EEO, labor and management relations, performance and conduct-based actions). Coordinates with OHR concerning all ASPA recruitment and personnel actions and manages professional staff development. Administers ASPA's Ethics Program and serves as liaison with OS' Office of Security and Strategic Information (OSSI) on behalf of ASPA staff regarding personnel security initiatives and requirements.

F3. FOI/Privacy Acts Division (APA3)—Administers Freedom of Information Act (FOIA) and Privacy Act issues and requests, including appeals for the Office of the Secretary. Supports and assists the execution of the ACFO/DACFO responsibilities to monitor and facilitate departmental compliance with public disclosure requirements; establish departmental Freedom of Information Act policies; coordinate, monitor, and compile reports to Congress; and provide technical assistance to the HHS Operating Divisions. Maintains the Department's index of materials mandated for public release by FOIA. In concert with Office of General Counsel staff, assists in developing regulations, policy interpretations, guidelines and procedures, and training programs for all Department components, as necessary and appropriate to implement FOIA and related legislation, including the Privacy Act, Federal Advisory Committee Act and the Government in the Sunshine Act. Provides responses to requests made to components of the Office of the Secretary pursuant to the Freedom of Information Act and determines the availability of records and information under the law and HHS Regulations. Resolves questions regarding the release of records which overlap the FOIA and the Privacy Act. Analyzes and recommends action on FOIA and Privacy Act appeals for documents denied by officials in the Office of the Secretary.

Dated: August 3, 2015.
E.J. Holland, Jr.,
Assistant Secretary for Administration.

[FR Doc. 2015-19522 Filed 8-7-15; 8:45 am]

BILLING CODE 4150-25-P